FEDERAL MARITIME COMMISSION

[Petition No. P6-03]

Petition of Sinotrans Container Lines Co., Ltd., (Sinolines) for Full Exemption from the First Sentence of Section 9(C) of the Shipping Act of 1984, as Amended; Notice of Filing

Notice is hereby given that Sinotrans Container Lines Co., Ltd., (Sinolines)(“Petitioner”) has petitioned, pursuant to Section 16 of the Shipping Act of 1984, 46 U.S.C. app. 1715, and 46 CFR 502.69, for a full exemption from the first sentence of Section 9(c) of the 1984 Act, 46 U.S.C. app. 1708(c). Petitioner seeks an exemption so that it can lawfully publish rate decreases effective upon publication, regardless of whether those rates meet, exceed or are lower than the rates of competing carriers' rates.

In order for the Commission to make a thorough evaluation of the Petition, interested persons are requested to submit views or arguments in reply to the Petition no later than September 5, 2003. Replies shall consist of an original and 15 copies, be directed to the Secretary, Federal Maritime Commission, 800 North Capitol Street, NW., Washington, DC 20573-0001, and be served on Petitioner's counsel, Robert B. Yoshitomi, Esq., Nixon Peabody LLP, 2040 Main Street, Suite 850, Irvine, California 92614. It is also requested that a copy of the reply be submitted in electronic form (WordPerfect, Word or ASCII) on diskette or e-mailed to Secretary@fmc.gov. Copies of the petition are available at the Office of the Secretary of the Commission, 800 N. Capitol Street, NW, Room 1046. A copy may also be obtained by sending a request to secretary@fmc.gov or by calling (202) 523-5725. Parties participating in this proceeding may elect to receive service of the Commission's issuances in this proceeding through e-mail in lieu of service by U.S. mail. A party opting for electronic service shall advise the Office of the Secretary in writing and provide an e-mail address where service can be made. Such request may be directed to secretary@fmc.gov.

Karen V. Gregory,
Acting Assistant Secretary.

[FR Doc. 03-21125 Filed 8-18-03; 8:45 am]

BILLING CODE 6730-01-P